ENVIRONMENTAL PROTECTION AGENCY

[FRL-7506-1]

Protection of Stratospheric Ozone: Methyl Bromide Critical Use Exemption and Allocation Planning; Notice of Stakeholder Meeting

AGENCY: Environmental Protection Agency (EPA).

ACTION: Notice of stakeholder meetings.

SUMMARY: EPA will hold stakeholder meetings this summer on the methyl bromide critical use exemption (CUE) program in Washington D.C. and in locations around the country to be announced. The stakeholder meetings will assist applicants with the 2003 critical use exemption (CUE) application, provide guidance to 2002 critical use exemption applicants, and discuss options for allocation of methyl bromide under the CUE. For additional information on the application workshops and for logistical information, please contact the Office of Pesticide Programs. Preliminary information on additional, tentatively scheduled workshops is listed below. Updated information will be posted to both www.epa.gov/ozone/mbr and www.epa.gov/pesticides. Interested members of the public are encouraged to R.S.V.P. no later than June 10, 2003, by 5 p.m. for the June 16 allocation session by contacting the Office of Air and Radiation as listed under ADDRESSES.

DATES: The meetings will take place:

1. Washington, DC—Allocation options session: Monday, June 16, 2003, from 1 p.m. to 5 p.m. at EPA Judiciary Square, 1st Floor Conference Room, 501 3rd Street, NW., Washington, DC 20009. CUE application workshops—the week of June 16, 2003.

2. Raleigh, North Carolina—the week of June 16, 2003.

3. East Lansing, Michigan—the week of June 16, 2003.

4. Orlando, Florida—the week of June 24, 2003.

5. Parlier, California—the week of June 24, 2003.

6. Washington, DC—Allocation options session: Friday, August 15, 2003, from 9 a.m. to 12 p.m. at EPA Judiciary Square, 1st Floor Conference Room, 501 3rd Street, NW., Washington, DC 20009.

ADDRESSES: Send R.S.V.P's for the June 16 Washington DC allocation sessions to Hodayah Finman at U.S. Environmental Protection Agency, Global Programs Division (6205J), 1200 Pennsylvania Ave., NW., Washington, DC, 20460; via phone at 202-564-2651 or electronic mail at finman.hodayah@epa.gov.

FOR FURTHER INFORMATION CONTACT: For additional information about the application workshops and logistics, contact Bill Chism, U.S. Environmental Protection Agency, Office of Pesticide Programs (7503C), 1200 Pennsylvania Avenue., NW., Washington, DC 20460; telephone: (703) 308-8136; e-mail: chism.bill@epa.gov.

For additional information and R.S.V.P.s on the allocation options sessions, contact Hodayah Finman, U.S. Environmental Protection Agency, Office of Atmospheric Programs (6205J), 1200 Pennsylvania Avenue., NW., Washington, DC 20460; telephone: (202) 564-2651; e-mail: finman.hodayah@epa.gov.

For further information on the Critical Use Exemption from the phaseout of methyl bromide, contact the U.S. EPA Stratospheric Ozone Information Hotline at 1-800-296-1996.

SUPPLEMENTARY INFORMATION: Methyl bromide is a chemical pesticide that has been identified as an ozone-depleting substance under the Montreal Protocol on Substances that Deplete the Ozone Layer (Protocol) and the Clean Air Act. It is scheduled for complete phaseout by January 1, 2005. The Critical Use Exemption is designed to allow continued production and import of methyl bromide after the phaseout for those uses that demonstrate they have no technically and economically feasible alternatives.

The purpose of the June 16 meeting, and other sessions on the allocation rule, is for the Environmental Protection Agency (EPA) to describe potential options for allocating critical use exemptions authorized by the Parties to the Protocol and to provide a public fora for input on the issues raised by allocation options. At this first session on June 16, EPA will describe possible options to be discussed in the allocation notice and comment rulemaking process. The presentation of possible allocation options will be followed by a lengthy question and answer session. At the subsequent session on August 15, EPA will seek stakeholder comments and statements on the allocation options in either an oral or written format. At this time, EPA is announcing the time and location for sessions on allocation options to be held in Washington, DC and requests that all interested members of the public R.S.V.P. to the Office of Air and Radiation no later than June 10, 2003, by 5 p.m. for the June 16 session and no later than July 29 at 5 p.m. for the August 15 meeting. EPA will be having additional discussions about the notice and comment rulemaking process for the allocation of critical use exemptions as part of the meetings to be held in locations outside of Washington DC. Further information on the other methyl bromide sessions regarding the CUE application process will be posted to both www.epa.gov/ozone/mbr and www.epa.gov/pesticides. Additional information about the Critical Use Exemption of methyl bromide can be found at http://www.epa.gov/ozone/mbr.

Individuals wishing to attend these meetings or participate via conference call are encouraged to R.S.V.P. For those who cannot travel to the Washington DC, sessions on allocation options, there will be 20 conference call lines available on a first come, first served basis. When registering, please give your name, organization, postal (and electronic, if any) mailing address, telephone, and fax number. All statements, questions, and answers will become part of the public record and will be considered in the development of any proposed rule. If there is insufficient interest in a meeting, that particular meeting may be canceled. The Agency bears no responsibility for attendees' decisions to purchase nonrefundable transportation tickets or accommodation reservations.

Dated: May 22, 2003.
Drusilla Hufford,
Director, Global Programs Division.

[FR Doc. 03-13720 Filed 5-30-03; 8:45 am]

BILLING CODE 6560-60-P